DEPARTMENT OF COMMERCE

Foreign-Trade Zones Board

[B-27-2015]

Foreign-Trade Zone (FTZ) 154—Baton Rouge, Louisiana; Authorization of Production Activity; Syngenta Crop Protection, LLC; Subzone 154B; (Herbicides and Insecticides), St. Gabriel and Baton Rouge, Louisiana

On April 22, 2015, the Greater Baton Rouge Port Commission, grantee of FTZ 154, submitted a notification of proposed production activity to the Foreign-Trade Zones (FTZ) Board on behalf of Syngenta Crop Protection, LLC, within Subzone 154B, located at sites in St. Gabriel and Baton Rouge, Louisiana.

The notification was processed in accordance with the regulations of the FTZ Board (15 CFR part 400), including notice in the Federal Register inviting public comment (80 FR 25277, 05-04-2015). The FTZ Board has determined that no further review of the activity is warranted at this time. The production activity described in the notification is authorized, subject to the FTZ Act and the Board's regulations, including Section 400.14.

Dated: August 20, 2015.
Andrew McGilvray,
Executive Secretary.

[FR Doc. 2015-21254 Filed 8-26-15; 8:45 am]

BILLING CODE 3510-DS-P